DEPARTMENT OF JUSTICE

Notice Lodging of Proposed Consent Decree Under the Comprehensive Environmental Response, Compensation and Liability Act

On March 12, 2024, the Department of Justice lodged a proposed Consent Decree with the United States District Court for the Eastern District of Missouri in the lawsuit entitled United States v. Ameren Corporation, et al., Civil Action No. 1:24-cv-00047. See Docket No. 2-1.

The proposed Consent Decree resolves claims brought by the United States under the Comprehensive Environmental Response, Compensation and Liability Act (CERCLA) against thirty-six defendants for the recovery of costs that the United States incurred responding to releases of hazardous substances at the Missouri Electric Works Superfund Site in Cape Girardeau, Missouri.

The settlement requires defendants to pay $6,074,739 of the United States' response costs and requires certain settling federal agencies to pay further $600,798 of the United States' response costs. In return for the defendants' commitments, the United States agrees not to sue the defendants under sections 106 and 107 of CERCLA. The Environmental Protection Agency also covenants not to take administrative action against the settling Federal agencies under sections 106 and 107 of CERCLA.

The publication of this notice opens a period for public comment on the proposed Consent Decree. Comments should be addressed to the Assistant Attorney General, Environment and Natural Resources Division, and should refer to United States v. Ameren Corporation, et al., D.J. Ref. No. 90-11-2-614/4. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed Consent Decree may be examined and downloaded at this Justice Department website: https://www.justice.gov/enrd/consent-decrees. If you require assistance accessing the proposed Consent Decree, you may request assistance by email or by mail to the addresses provided above for submitting comments.

Kathryn C. Macdonald,
Assistant Section Chief, Environmental Enforcement Section, Environment and Natural Resources Division.

[FR Doc. 2024-05746 Filed 3-18-24; 8:45 am]

BILLING CODE 4410-15-P